DEPARTMENT OF HEALTH AND HUMAN SERVICES

Centers for Disease Control and Prevention (CDC)

Public Health Service (PHS) Act; Delegation of Authority

Notice is hereby given that I have delegated to the Associate Director for Science, CDC, without authority to redelegate, the authority vested in the Director, CDC, under section 301(d), of the PHS Act (42 U.S.C. 241 et seq.).

This delegation became effective upon date of signature.

Dated: July 29, 2003.
Julie Louise Gerberding,
Director.

[FR Doc. 03-19953 Filed 8-5-03; 8:45 am]

BILLING CODE 4160-18-M